FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777 (46 U.S.C. § 817 (e)) and the Federal Maritime Commission's implementing regulations at 46 CFR Part 540, as amended:

American Classic Voyages Company, 1380 Port of New Orleans Place, New Orleans, LA 70130-1890

Vessels: Project America Ship I and Project America Ship II

C G Cruise Invest AS (d/b/a SeaDream Yacht Club), 3601 S. Bayshore Drive, Penthouse 1B, Coconut Grove, FL 33133

Vessels: Seadream I and Seadream II

Carnival Corporation (d/b/a Carnival and Carnival Cruise Lines), 3655 N.W. 87th Avenue, Miami, FL 33178-2193

Vessels: Carnival Glory, Carnival Miracle and Carnival Valor

Celebrity Cruises Inc.(d/b/a Celebrity Cruises), 1050 Caribbean Way, Miami, FL 33132

Vessel: Constellation

Corporacion Ferries del Caribe, Inc. (d/b/a Ferries del Caribe), Calle Concordia #249 Altos, P. O. Box 6448, Mayaguez, PR 00680

Vessel: Millenium Express

Cunard Line Limited (d/b/a Cunard), 6100 Blue Lagoon Drive, Suite 400, Miami, FL 33126

Vessel: Queen Mary 2

Discovery Sun Partnership, Discovery Sun Cruises, Inc. and Discovery Sun Tours, Inc., 1775 N.W. 70th Avenue, Miami, FL 33126-1341

Vessel: Discovery Sun

Norwegian Cruise Line Limited (d/b/a Norwegian Cruise Line), 7665 Corporate Center Drive, Miami, FL 33126

Vessels: Norwegian Leo, Norwegian Star and Norwegian Sun

Norwegian Cruise Line Limited (d/b/a Orient Lines), 7665 Corporate Center Drive, Miami, FL 33126

Vessel: Ocean Voyager

P & O Princess Cruises International Limited and Princess Cruise Lines, Ltd. Richmond House, Terminus Terrace, Southampton S014 3PN, United Kingdom

Vessel: Oceana

Prince of Fundy Cruises Ltd., International Shipping Partners, Inc. and Transworld Steamship Co. Inc., Station A, P.O. Box 4216, 468 Commercial Street, Portland, ME 04101

Vessel: Scotia Prince

Princess Cruise Lines, Ltd., P & O Princess Cruises International Limited and P & O Princess Cruises plc, 24305 Town Center Drive, Santa Clarita, CA 91355-4999

Vessels: Coral Princess, Crown Princess, Dawn Princess, Golden Princess, Grand Princess, Ocean Princess, Regal Princess, Sea Princess, Star Princess and Sun Princess

Princess Cruise Lines, Ltd., P & O Princess Cruises International Limited, Princess Cruises (Shipowners) Limited and P & O Princess Cruises plc, 24305 Town Center Drive, Santa Clarita, CA 91355-4999

Vessels: Pacific Princess and Royal Princess

Royal Olympic Cruises Ltd., 805 3rd Avenue, 18th Floor, New York, NY 10002

Vessel: Olympic Countess

Silversea Cruises, Ltd. and Silversea New Build Two Ltd., 110 East Broward Blvd., Fort Lauderdale, FL 33301

Vessel: Silver Whisper

West Travel, Inc. (d/b/a Alaska Sightseeing/Cruise West), 2401 4th Avenue, Seattle, WA 98121-1438

Vessel: Spirit of Oceanus

Dated: October 12, 2001.
Bryant L. VanBrakle,
Secretary.

[FR Doc. 01-26144 Filed 10-16-01; 8:45 am]

BILLING CODE 6730-01-P